DEPARTMENT OF TRANSPORTATION

Federal Transit Administration

49 CFR Part 605

[Docket No. FTA-2008-0044]

RIN 2132-AB00

School Bus Operations

AGENCY: Federal Transit Administration (FTA), DOT.

ACTION: Notice of proposed rulemaking; withdrawal.

SUMMARY: The Federal Transit Administration (FTA) hereby withdraws a notice of proposed rulemaking (NPRM) regarding school bus operations published in the Federal Register on November 18, 2008. FTA has determined that withdrawal of the NPRM is appropriate in consideration of public misperceptions with FTA's regulatory proposal.

DATES: Effective Date: The proposed rule, published on November 18, 2008 (73 FR 68375), is withdrawn as of June 26, 2009.

FOR FURTHER INFORMATION CONTACT: Michael L. Culotta, Attorney, Office of Chief Counsel, Federal Transit Administration, U.S. Department of Transportation, 1200 New Jersey Avenue, SE., East Building-5th Floor, Washington, DC 20590. E-mail: Michael.Culotta@dot.gov. Telephone: (202) 366-1936. Facsimile: (202) 366-3809.

SUPPLEMENTARY INFORMATION:

Background

On November 18, 2008, FTA issued a Notice of Proposed Rulemaking (NPRM) to amend its school bus operations regulations at 49 CFR part 605.¹ FTA issued the NPRM to make the regulations consistent with the changes to the Agency's authorization statute, 49 U.S.C. 5323(f), as amended by Section 3023(f) of the Safe, Accountable, Flexible, Efficient Transportation Equity Act: A Legacy for Users (SAFETEA-LU); ² to provide clarification about the regulations in the context of the recent decision by the U.S. District Court for the Western District of New York in Rochester-Genesee Regional Transportation Authority v. Hynes-Cherin; ³ and generally, to update the regulation based on experience and industry practice. Through the NPRM, FTA intended to provide its grantees with a regulatory basis which would allow them to continue to provide the service that FTA historically has allowed through administrative adjudications, while simultaneously satisfying the statutory requirements of 49 U.S.C. 5323(f).

¹ Federal Transit Administration, Notice of Proposed Rulemaking on School Bus Operations, 73 FR 68375 (Nov. 18, 2008).

² Safe, Accountable, Flexible, Efficient Transportation Equity Act: A Legacy for Users (SAFETEA-LU) sec. 3023, 49 U.S.C. 5323(f) (2006).

³ 531 F.Supp.2d 494 (W.D.N.Y. 2008).

The comment period for the NPRM closed on February 18, 2009. FTA has received and considered all 233 written comments in response to the NPRM. Although FTA received a good deal of support for the NPRM, many commenters opposed it. Generally, critics of the NPRM believed that FTA was attempting to restrict opportunities for its grantees to provide transportation, when in fact, FTA was attempting to allow its grantees to provide service it historically has allowed. FTA finds, moreover, that many commenters misunderstood FTA's objectives to rectify a significantly outdated regulatory scheme.

The Withdrawal

In consideration of the foregoing, FTA hereby withdraws its NPRM on school bus operations for FTA Docket Number FTA-2008-0044, as published in the Federal Register on November 18, 2008 (73 FR 68375). FTA will revisit the issues addressed in the NPRM in the near future.

Issued in Washington, DC, on this 23rd day of June 2009.
Peter M. Rogoff,
Administrator.

[FR Doc. E9-15346 Filed 6-24-09; 4:15 pm]

BILLING CODE P